DEPARTMENT OF STATE

[Public Notice: 11740]

30-Day Notice of Proposed Information Collection: Electronic Diversity Visa Entry Form

ACTION: Notice of request for public comment and submission to OMB of proposed collection of information.

SUMMARY: The Department of State has submitted the information collection described below to the Office of Management and Budget (OMB) for approval. In accordance with the Paperwork Reduction Act of 1995, we are requesting comments on this collection from all interested individuals and organizations. The purpose of this Notice is to allow 30 days for public comment.

DATES: Submit comments up to June 21, 2022.

ADDRESSES:

• Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Tonya Whigham, Department of State, Bureau of Consular Affairs, Office of Visa Service at PRA_BurdenComments@state.gov or (202) 485-7586. You must include the DS form number (if applicable), information collection title, and the OMB control number in any correspondence, as well as current contact information to allow us to respond.

SUPPLEMENTARY INFORMATION:

• Title of Information Collection: Electronic Diversity Visa Entry Form.

• OMB Control Number: 1405-0153.

• Type of Request: Extension of a Currently Approved Collection.

• Originating Office: CA/VO.

• Form Number: DS-5501.

• Respondents: Diversity Visa Entrants.

• Estimated Number of Respondents: 14,589,023.

• Estimated Number of Responses: 14,589,023.

• Average Time per Response: 35 minutes.

• Total Estimated Burden Time: 8,510,263 hours.

• Frequency: Annually.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Department of State utilizes the Electronic Diversity Visa (“EDV”) Entry Form to elicit information necessary to establish the eligibility of the applicant for the diversity immigrant visa program. The two primary requirements of the program are: (1) The applicant must be a native of a low admission country and (2) the applicant must have at least a high school education or its equivalent or, within five years of the date of application, two years of experience in an occupation that requires two years of training or experience. Individuals complete the electronic entry forms and then applications are randomly selected for further participation in the program. The Department of State's regulations pertaining to diversity immigrant visas are published in 22 CFR 42.33.

Methodology

The EDV Entry Form is available online at https://dvprogram.state.gov and can only be submitted electronically during the annual registration period.

Julie M. Stufft,
Deputy Assistant Secretary, Bureau of Consular Affairs, Department of State.

[FR Doc. 2022-10894 Filed 5-19-22; 8:45 am]

BILLING CODE 4710-06-P